DEPARTMENT OF ENERGY

U.S. Energy Information Administration

Agency Information Collection Extension

AGENCY: U.S. Energy Information Administration (EIA), Department of Energy (DOE).

ACTION: Notice and Request for Office of Management and Budget (OMB) Review and Comment.

SUMMARY: EIA has submitted, under the provisions of the Paperwork Reduction Act of 1995, an information collection request to the OMB for a three-year extension, with changes, of its Petroleum Supply Reporting System (PSRS) information collection (OMB 1905-0165). The Petroleum Supply Reporting System consists of weekly and monthly petroleum and biofuels supply surveys and an annual refinery survey of capacity, crude oil receipts, and fuels consumed.

EIA proposes the following changes to several Petroleum Supply Reporting System surveys: (1) Move to site level weekly reporting of all bulk terminal activity on an expanded version of Form EIA-805, “Weekly Bulk Terminal and Blender Report;” (2) discontinue weekly reporting on Form EIA-801, “Weekly Bulk Terminal Report;” (3) discontinue reporting the maximum sustainable fuel ethanol capacity on Form EIA-819, “Monthly Oxygenate Report;” (4) include the Form EIA-22M in the PSRS data collection, (5) change the data protections for specific data elements on Forms EIA-810, EIA-819 and EIA-22M and publicly release these data elements in identifiable form (a) monthly atmospheric crude oil distillation reported on Form EIA-810, “Monthly Refinery Report;” (b) ethanol nameplate production capacity reported on Form EIA-819, “Monthly Oxygenate Report;” and (c) biodiesel production capacity reported on Form EIA-22M, “Monthly Biodiesel Production Survey;” and (6) discontinue application of disclosure avoidance procedures to U.S. and regional biodiesel production and stocks data reported on Form EIA-22M. This change will make the data protection policy for biodiesel production and stocks consistent with the policy applied to all other data released in the Petroleum Supply Monthly and Petroleum Supply Annual reports.

DATES: Comments regarding this collection must be received on or before December 27, 2012. If you anticipate that you will be submitting comments, but find it difficult to do so within the period of time allowed by this notice, please advise the DOE Desk Officer at OMB of your intention to make a submission as soon as possible. The Desk Officer may be telephoned at (202) 395-4718 or contacted by email at Chad_S_Whiteman@omb.eop.gov.

ADDRESSES: Written comments should be sent to the DOE Desk Officer, Office of Information and Regulatory Affairs, Office of Management and Budget, New Executive Office Building, Room 10102, 735 17th Street NW., Washington, DC 20503. And to Sylvia Norris, EI-25, U.S. Energy Information Administration, 1000 Independence Ave. SW., Washington, DC 20585.

FOR FURTHER INFORMATION CONTACT: Requests for additional information or copies of the information collection instrument and instructions should be directed to Sylvia Norris, EI-25, U.S. Energy Information Administration, U.S. Department of Energy, 1000 Independence Avenue SW., Washington, DC 20585, fax: (202) 586-3873, email: sylvia.norris@eia.gov, phone: (202) 586-6106.

The collection instrument and instructions are also available on the Internet, at: http://www.eia.gov/survey/#petroleum.

SUPPLEMENTARY INFORMATION: This information collection request contains:

(1) OMB No.: 1905-0165;

(2) Information Collection Request Title: Petroleum Supply Reporting System. The survey forms included in this system are:

Form EIA-22M, “Monthly Biodiesel Production Survey”

Form EIA-800, “Weekly Refinery Report”

Form EIA-801, “Weekly Bulk Terminal Report” (to be discontinued in this proposal)

Form EIA-802, “Weekly Product Pipeline Report”

Form EIA-803, “Weekly Crude Oil Report”

Form EIA-804, “Weekly Import Report”

Form EIA-805, “Weekly Bulk Terminal and Blender Report”

Form EIA-809, “Weekly Oxygenate Report”

Form EIA-810, “Monthly Refinery Report”

Form EIA-812, “Monthly Product Pipeline Report”

Form EIA-813, “Monthly Crude Oil Report”

Form EIA-814, “Monthly Import Report”

Form EIA-815, “Monthly Bulk Terminal and Blender Report”

Form EIA-816, “Monthly Natural Gas Plant Liquids Report”

Form EIA-817, “Monthly Tanker and Barge Movements Report”

Form EIA-819, “Monthly Oxygenate Report”

Form EIA-820, “Annual Refinery Report;”

(3) Type of Request: Three-year extension with changes;

(4) Purpose:

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands. Furthermore, Section 1508 of the Energy Policy Act of 2005 (EPACT 2005) (42 U.S.C. § 7135(m)) requires the EIA to conduct a survey that collects the quantity of renewable fuels produced, blended, imported, and demanded as well as market price data on a monthly basis. Form EIA-22M collects these data in order to fulfill this mandate.

Weekly petroleum and biofuels supply surveys (Forms EIA-800, 802, 803, 804, 805, and 809) are used to gather data on petroleum refinery operations, blending, biofuels production, inventory levels, and imports of crude oil, petroleum products, and biofuels from a sample of operating companies. Data from weekly surveys appear in EIA reports including the following:

• Weekly Petroleum Status Report, http://www.eia.gov/oil_gas/petroleum/data_publications/weekly_petroleum_status_report/wpsr.html;

• Short-Term Energy Outlook, http://www.eia.gov/forecasts/steo/;

• This Week in Petroleum, http://www.eia.gov/oog/info/twip/twip.asp; and

• Monthly Energy Review, http://www.eia.gov/totalenergy/data/monthly/.

Monthly petroleum and biofuels supply surveys (Forms EIA-810, 812, 813, 814, 815, 816, 817, 819, and 22M) are used to gather data on petroleum refinery operations, blending, biofuels production, natural gas plant liquids production, inventory levels, imports, inter-regional movements, and storage capacity for crude oil, petroleum products, and biofuels. Crude oil production data and petroleum and biofuels export data from the U.S. Census Bureau are integrated with data from EIA petroleum supply surveys to create a comprehensive statistical view of U.S. petroleum supplies that is unavailable from any other source.

Monthly petroleum and biofuels supply surveys support weekly surveys by providing a complete set of in-scope petroleum and biofuels supply data from which weekly survey samples are drawn. In addition, monthly surveys include data elements that are not collected on weekly reports such as production of natural gas plant liquids and refinery processing gain. Data from monthly petroleum and biofuels supply surveys appear in EIA reports, including the following:

• Petroleum Supply Monthly, http://www.eia.gov/petroleum/supply/monthly/;

• Petroleum Supply Annual, http://www.eia.gov/petroleum/supply/annual/volume1/;

• Monthly Biodiesel Report, http://www.eia.gov/biofuels/biodiesel/production/;

• Monthly Energy Review, http://www.eia.gov/mer/;

• Annual Energy Review, http://www.eia.gov/totalenergy/data/annual/;

• Short-Term Energy Outlook, http://www.eia.gov/forecasts/steo/; and

• Annual Energy Outlook, http://www.eia.gov/forecasts/aeo/.

These monthly survey data provide input for reports in the EIA State Energy Data System and included as U.S. data submitted to the International Energy Agency.

Form EIA-820, “Annual Refinery Report,” provides plant-level data on refinery capacities as well as national and regional data on fuels consumed by refineries, natural gas consumed as hydrogen feedstock, and crude oil receipts by method of transportation for operating and idle petroleum refineries (including new refineries under construction) and refineries shutdown during the previous year. The information collected appears in the Refinery Capacity Report, http://www.eia.gov/petroleum/refinerycapacity/; Annual Energy Review, http://www.eia.gov/totalenergy/data/annual/, and other reports available electronically from the EIA Web site at http://www.eia.gov;

(4a) Proposed Changes to Information Collection:

EIA proposes to discontinue Form EIA-801 “Weekly Bulk Terminal Report” and collect that same information by adding data elements to Form EIA-805, “Weekly Bulk Terminal and Blender Report,” so that Form EIA-805 will be used to collect bulk terminal inventory data that were collected on Form EIA-801 as well as gasoline and other blending operations data. The following are proposed modifications to Form EIA-805:

• Add stocks of total natural gas plant liquids (NGPL) and liquefied refinery gases (LRG)

• Add stocks of propane and propylene (a subset of total NGPL and LRG)

• Add stocks of nonfuel propylene (a subset of propane/propylene stocks)

• Add stocks of residual fuel oil

• Add stocks of unfinished oils

• Add stocks of products currently listed on Form EIA-805 including:

—Fuel ethanol

—Finished Motor Gasoline, Reformulated, blended with Fuel Ethanol

—Finished Motor Gasoline, Reformulated, Other

—Finished Motor Gasoline, Conventional, blended with Fuel Ethanol, Ed55 and lower

—Finished Motor Gasoline, Conventional, blended with Fuel Ethanol, Greater than Ed55

—Finished Motor Gasoline, Conventional, Other

—Motor Gasoline Blending Components, Reformulated Blendstock for Oxygenate Blending (RBOB)

—Motor Gasoline Blending Components, Conventional Blendstock for Oxygenate Blending (CBOB)

—Motor Gasoline Blending Components, Gasoline Treated as Blendstock (GTAB)

—Motor Gasoline Blending Components, All Other

—Kerosene-Type Jet Fuel

—Distillate Fuel Oil by Sulfur Category (15 ppm sulfur and under, Greater than 15 ppm to 500 ppm sulfur, and Greater than 500 ppm sulfur)

EIA also proposes to change the data protection policy regarding monthly atmospheric crude oil distillation capacity reported on Form EIA-810, “Monthly Refinery Report,” to no longer protect monthly atmospheric crude oil distillation reported on Form EIA-810 because atmospheric crude oil distillation capacity data is reported annually on Form EIA-820 and has been publicly released in identifiable form for over twenty years.

In addition, EIA proposes to discontinue collection of maximum sustainable fuel ethanol production capacity and change the data protection policy on Form EIA-819 to treat all information reported on fuel ethanol nameplate production capacity on Form EIA-819 as public information and release this information on EIA's Web site. The proposed policy change is consistent with past EIA practices and will improve the utility of the data by permitting comparisons of the growth in capacity at the state level over the past twenty years. Also, this type of information is currently publicly available from other exogenous sources through the Internet.

Also, EIA proposes to include the Form EIA-22M in the PSRS data collection and treat all information reported on biodiesel production capacity on Form EIA-22M as public information that may be released on EIA's Web site. Information on biodiesel production capacities by plant is currently publicly available from the National Biodiesel Board Web site at http://www.nbb.org/about-us/member-plants/nbb-member-plant-lists.

This change also provides a consistent policy for biodiesel production capacity data, oil refinery capacity, and fuel ethanol production capacity.

Finally, EIA proposes to further modify the data protection policy for monthly biodiesel production data reported on Form EIA-22M by not applying any disclosure limitation methodology to the published statistical aggregates for quantities of biodiesel production and ending stocks at the Petroleum Administration for Defense District (PADD) level. The change in data protection policy for production and stocks of biodiesel is necessary, as EIA has incorporated biodiesel production and stocks in petroleum supply and disposition balance tables (with data for the U.S. and PADDs) published in the Petroleum Supply Monthly and Petroleum Supply Annual, and disclosure limitation procedures are not applied to data in these reports. EIA is not proposing to explicitly report biodiesel production in company identifiable form, but only to discontinue application of disclosure limitation procedures to U.S. and PADD level biodiesel production and stocks totals calculated from data reported on Form EIA-22M. Applying statistical disclosure limitation procedures to biodiesel production and stocks data would potentially prevent EIA from accurately reporting data on distillate fuel oil supply, disposition, and demand including biodiesel, especially at the PADD level. Disclosure limitation procedures will continue to be applied to the other data reported on Form EIA-22M not addressed in this notice.

(5) Estimated Number of Survey Respondents:

Weekly Survey Forms:

EIA-800: 141 Respondents; EIA-802: 51 Respondents; EIA-803: 57 Respondents; EIA-804, 104 Respondents; EIA-805, 750 Respondents; EIA-809, 142 Respondents;

Monthly Survey Forms:

EIA-22M: 150 Respondents; EIA-810: 153 Respondents; EIA-812: 80 Respondents; EIA-813: 167 Respondents; EIA-814: 391 Respondents; EIA-815: 1,476 Respondents; EIA-816: 451 Respondents; EIA-817: 34 Respondents; EIA-819: 203 Respondents;

Annual Survey Forms:

EIA-820: 148 Respondents.

Total respondents for Petroleum Supply Reporting System: 4,491 respondents. (Many respondents report on multiple surveys and are counted for each survey they report. For example, the 104 respondents on the weekly Form EIA-804 are also included as a subset of the 391 respondents reporting on the monthly Form EIA-814, so that the two surveys contribute a total of 495 respondents.);

(6) Annual Estimated Number of Total Responses:

Weekly Survey Forms (Respondents x 52):

EIA-800: 7,332 Responses; EIA-802: 2,652 Responses; EIA-803:2,964 Responses; EIA-804: 5,408 Responses; EIA-805: 39,000 Responses; EIA-809: 7,384 Responses;

Monthly Survey Forms (Respondents x 12):

EIA-22M: 1,800 Responses; EIA-810: 1,800 Responses; EIA-812: 960 Responses; EIA-813: 2,004 Responses; EIA-814: 4,692 Responses; EIA-815: 17,712 Responses; EIA-816: 5,412 Responses; EIA-817: 408 Responses; EIA-819: 2,436 Responses;

Annual Survey Forms (Respondents x 1):

EIA-820: 144 Responses.

Total annual responses for the Petroleum Supply Reporting System: 102,108 responses;

(7) Annual Estimated Number of Burden Hours:

Weekly Survey Forms:

EIA-800: 11,585 hours; EIA-802: 2,519 hours; EIA-803: 1,482 hours; EIA-804: 9,464 hours; EIA-805: 62,400 hours; EIA-809: 7,384 hours;

Monthly Survey Forms:

EIA-22M: 5,400 hours; EIA-810: 9,360 hours; EIA-812: 3,360 hours; EIA-813: 4,008 hours; EIA-814: 11,965 hours; EIA-815: 74,390 hours; EIA-816: 5,141 hours; EIA-817: 918 hours; EIA-819: 3,898 hours;

Annual Survey Forms:

EIA-820: 288 hours;

Total annual response burden for the Petroleum Supply Reporting System: 213,562 hours;

(8) Annual Estimated Reporting and Recordkeeping Cost Burden: EIA estimates that there are not any additional costs to respondents associated with the surveys other than the costs associated with the burden hours.

Statutory Authority: Section 13(b) of the Federal Energy Administration Act of 1974, P.L. 93-275, codified at 15 U.S.C. 772(b), and the DOE Organization Act of 1977, Public Law 95-91, codified at 42 U.S.C. 7101 et seq.

Issued in Washington, DC, November, 20, 2012.
Stephanie Brown,
Director, Office of Survey Development and Statistical Integration, U.S. Energy Information Administration.

[FR Doc. 2012-28712 Filed 11-26-12; 8:45 am]

BILLING CODE 6450-01-P